DEPARTMENT OF COMMERCE

Economic Development Administration

Proposed Information Collection; Comment Request; Trade Adjustment Assistance for Firms Program

AGENCY: Economic Development Administration (EDA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 20, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Diane Rodriguez, Program Analyst, Performance and National Programs Division, Room 7009, Economic Development Administration, Washington, DC 20230, telephone (202) 482-4495, facsimile (202) 482-2838 (or via the Internet at drodriguez@eda.doc.gov).

SUPPLEMENTARY INFORMATION:

I. Abstract

The Economic Development Administration (EDA) administers the Trade Adjustment Assistance for Firms Program, which is authorized by chapters 3 and 5 of title II of the Trade Act of 1974, as amended (19 U.S.C. 2341 et seq.) (Trade Act). EDA certifies firms as eligible to apply for Trade Adjustment Assistance (TAA), provides technical adjustment assistance to firms and other recipients, and provides assistance to organizations representing trade injured industries. In order to certify a firm as eligible to apply for TAA, EDA must verify: (1) A significant reduction in the number or proportion of the workers in the firm, a reduction in the workers' wage or work hours, or an imminent threat of such reductions; (2) sales or production of the firm have decreased absolutely, as defined in EDA's regulations, or sales or production, or both, of any article accounting for at least twenty-five (25) percent of the firm's sales or production have decreased absolutely; and (3) an increase in imports of articles like or directly competitive with those produced by the petitioning firm, which has contributed importantly to the decline in employment and sales or production of that firm. Additionally, the firm must demonstrate that U.S. customers have reduced or declined purchases from the firm in favor of buying imported items. EDA uses information collected from Form ED-840P, and its attachments, to determine if a firm is eligible to apply for TAA. The use of the form standardizes and limits the information collected as part of the certification process and eases the burden on applicants and reviewers alike.

II. Method of Collection

The ED-840P form is downloadable from EDA's Web site at http://www.eda.gov/InvestmentsGrants/Directives.xml and can be e-mailed or submitted in hard copy to EDA.

III. Data

OMB Control Number: 0610-0091.

Form Number(s): ED-840P.

Type of Review: Regular submission.

Affected Public: Business or other for-profit organizations.

Estimated Number of Respondents: 200.

Estimated Time per Response: 8 hours.

Estimated Total Annual Burden Hours: 1,600.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 14, 2008.
Gwellnar Banks,
Management Analyst, Office of the Chief Information Officer.

[FR Doc. E8-27558 Filed 11-19-08; 8:45 am]

BILLING CODE 3510-34-P